FEDERAL FINANCIAL INSTITUTIONS EXAMINATION COUNCIL

[Docket No. FFIEC-2016-0002]

Notice of Availability of Home Mortgage Disclosure Act (HMDA) Filing Instructions Guides for HMDA Data Collected in 2017 and 2018; Correction

AGENCY: Federal Financial Institutions Examination Council (FFIEC).

ACTION: Notice of availability; correction.

SUMMARY: The FFIEC published a notice in the Federal Register on July 21, 2016, announcing the availability of the Filing Instructions Guide (FIG) for Home Mortgage Disclosure Act (HMDA) data collected in 2017 and the Filing Instructions Guide for Home Mortgage Disclosure Act data collected in 2018. The FIGs provide a compendium of resources to help covered financial institutions file with the Bureau of Consumer Financial Protection (Bureau) HMDA data collected in 2017 and 2018. This notice corrects the telephone number, listed in the FOR FURTHER INFORMATION CONTACT section, from (855) 438-2372 to (202) 435-9888.

FOR FURTHER INFORMATION CONTACT: Michael Byrne, hmdahelp@cfpb.gov or (202) 435-9888.

Correction

In the Federal Register of July 21, 2016, in FR Doc. 2016-17234, on page 47394, in the first column, remove “(855) 438-2372” and add in its place “(202) 435-9888”.

Dated: August 3, 2016.
Federal Financial Institutions Examination Council.
Judith E. Dupre,
FFIEC Executive Secretary.

[FR Doc. 2016-18905 Filed 8-9-16; 8:45 am]

BILLING CODE 7535-01-P 6714-01-P 6210-01-P 4810-33-P 4810-AM-P